FEDERAL ACCOUNTING STANDARDS ADVISORY BOARD

Notice of 2022 FASAB Meetings

AGENCY: Federal Accounting Standards Advisory Board.

ACTION: Notice.

SUMMARY: Notice is hereby given that the Federal Accounting Standards Advisory Board (FASAB) will hold its meetings on the following dates throughout 2022, unless otherwise noted.

February 23-24, 2022

April 26-27, 2022

June 22-23, 2022

August 23-24, 2022

October 25-26, 2022

December 13-14, 2022

The purpose of the meetings is to discuss issues related to the following topics:

Accounting and Reporting of Government Land

Climate-Related Financial Reporting

Intangible Assets

Leases

Omnibus

Public-Private Partnerships

Reexamination of Existing Standards

Budgetary Information

Concepts Omnibus

Management's Discussion and Analysis

Software Technology

Any other topics as needed

Unless otherwise noted, FASAB meetings begin at 9:00 a.m. and conclude before 5 p.m. and are held at the U.S. Government Accountability Office (GAO) Building at 441 G St. NW in Room 7C13. The February meeting will be held virtually.

ADDRESSES: Agendas, briefing materials, and teleconference information for virtual meetings will be available at https://www.fasab.gov/briefing-materials/ approximately one week before each meeting. If FASAB decides to hold its April, June, August, October, and/or December meetings virtually, this decision will be posted no later than one week before each meeting on the briefing materials website as well.

Any interested person may attend the meetings as an observer. Board discussion and reviews are open to the public. GAO Building security requires advance notice of your attendance. If you wish to attend a FASAB meeting, please register on our website at https://www.fasab.gov/pre-registration/ no later than 5 p.m. the Friday before the meeting to be observed.

FOR FURTHER INFORMATION CONTACT: Ms. Monica R. Valentine, Executive Director, 441 G Street NW, Suite 1155, Washington, DC 20548, or call (202) 512-7350.

Authority: 31 U.S.C. 3511(d), Federal Advisory Committee Act, as amended (5 U.S.C. app.).

Dated: February 1, 2022.
Monica R. Valentine,
Executive Director.

[FR Doc. 2022-02838 Filed 2-9-22; 8:45 am]

BILLING CODE P